DEPARTMENT OF LABOR

Office of the Secretary

Agency Information Collection Activities; Submission for OMB Review; Comment Request; Generic Clearance for Site Visits

ACTION: Notice.

SUMMARY: The Department of Labor (DOL), seeks comment on the proposed information collection request titled “Generic Clearance for Site Visits” as part of its continuing effort to reduce paperwork and respondent burden, and conducts a preclearance consultation program to provide the general public and Federal agencies with an opportunity to comment on proposed and/or continuing collections of information in accordance with the Paperwork Reduction Act of 1995 (PRA95). This program helps to ensure that required data can be provided in the desired format, reporting burden (time and financial resources) is minimized, collection instruments are clearly understood, and the impact of collection requirements on respondents can be properly assessed.

A copy of the proposed ICR with applicable supporting documentation including a description of the likely respondents, proposed frequency of response, and estimated total burden can be obtained free of charge by contacting the office listed below in the addressee section of this notice.

DATES: Written comments must be submitted to the office listed in the addressee section below on or before September 23, 2013.

ADDRESSES: You may submit comments by either one of the following methods: Email: Javar.Janet.O@dol.gov; Mail or Courier: Office of the Assistant Secretary for Policy, Chief Evaluation Office, U.S. Department of Labor, Room S-2312, 200 Constitution Avenue NW., Washington, DC 20210. Instructions: Please submit one copy of your comments by only one method. All submissions received must include the agency name and OMB Control Number identified below for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Janet Javar by telephone at 202-693-5959 (this is not a toll-free number) or by email at Javar.Janet.O@dol.gov.

SUPPLEMENTARY INFORMATION:

I. Background: The Chief Evaluation Office (CEO) within the Department of Labor (DOL) is responsible for implementing, managing, and coordinating DOL's evaluation program. CEO works closely with agency staff to design, fund, and implement program evaluations. The results from evaluations inform policy, advance DOL's mission, and improve its performance-based management initiatives in support of the Government Performance and Results Modernization Act of 2010. CEO's efforts also support the President's goal of building a transparent, high-performance government, as stated in the President's Budget as well as the OMB memo (M-09-20) on Building a High-Performance Government. Paperwork Reduction Act (PRA) packages submitted under this generic clearance will identify all relevant legal or administrative requirements that are specific to the study and data collection.

This generic information request on site visits supports timely evaluation data collection necessary to answer key research questions. Qualitative information collected from site visits is a critical data source that can: (1) describe program implementation issues, the context in which the program was implemented, program services, program management and costs; (2) describe the experiences of service providers at each of the study sites, including site perspectives on implementation challenges and intervention effects; (3) describe the experiences and responses of individuals participating in the program; (4) document the extent to which the program model was implemented as planned; and (5) understand the extent to which treatment and control or comparison groups received their intended services.

To obtain critical information, many DOL-sponsored evaluations require that the evaluator conduct the initial site visit within a short timeframe after sites have been recruited or have implemented a program or intervention. This generic clearance process on site visits, which DOL intends to request a period of 36 months, would help facilitate the quick launch and collection of this critical data in a timely manner while still allowing a meaningful opportunity for public engagement on the overall parameters of the information to be collected.

II. Desired Focus of Comments: Currently, the Department of Labor is soliciting comments concerning the above data collection for a generic clearance on site visits. DOL is particularly interested in comments that:

*-evaluate whether the proposed collection of information is necessary for the proper performance of the functions of the agency, including whether the information will have practical utility;

*-evaluate the accuracy of the agency's estimate of the burden of the proposed collection of information, including the validity of the methodology and assumptions used;

*-enhance the quality, utility, and clarity of the information to be collected; and

*-minimize the burden of the information collection on those who are to respond, including the use of appropriate automated, electronic, mechanical, or other technological collection techniques or other forms of information technology, e.g., permitting electronic submissions of responses.

III. Current Actions: At this time, the Department of Labor is developing a generic information request for site visits.

Type of review: New information collection request.

OMB Control Number: 1205-0NEW

Name: Department of Labor Generic Clearance for Site Visits

Affected Public: Individuals or Households; Private Sector—businesses or other for-profits and not-for-profit institutions; and State, local, and Tribal governments

Frequency: Approximately 40 studies a year

Average Annual Respondents: Approximately 13,600 to 27,200 responses a year

Average Time per Response: Range, 60 to 120 minutes, 90 minutes anticipated midpoint.

Average Annual Burden Hours: Approximately 47,200 to 94,400 hours a year over three years.

Average Annual Other Burden Cost: $0

Comments submitted in response to this request will be summarized and/or included in the request for Office of Management and Budget approval; they will also become a matter of public record.

James H. Moore, Jr.,
Deputy Assistant Secretary for Policy, U.S. Department of Labor.

[FR Doc. 2013-17524 Filed 7-22-13; 8:45 am]

BILLING CODE 4510-23-P